TENNESSEE VALLEY AUTHORITY

Meeting of the Regional Energy Resource Council

AGENCY: Tennessee Valley Authority (TVA).

ACTION: Notice of meeting.

SUMMARY: The TVA Regional Energy Resource Council (RERC) will hold a meeting on February 24 and 25, to receive an update and provide advice on TVA's 2025 Integrated Resource Plan (IRP). The IRP provides strategic direction on how TVA will continue to provide low-cost, reliable, resilient, and increasingly cleaner electricity to the 10 million residents of the Valley region.

DATES: The meeting will be held in Franklin, Tennessee, at the Hilton Franklin Cool Springs on Monday, February 24, 2025, from 12:00 p.m. to 5:00 p.m. CT and on Tuesday, February 25, 2025, from 9:00 a.m. to 12:00 p.m. CT. RERC members are invited to attend the meeting in person. The public is invited to view the meeting virtually or attend in person. A one-hour public listening session for the public to present comments virtually or in person will be held February 25, at 9:15 a.m. CT. A link and instructions to view the meeting will be posted on TVA's RERC website at www.tva.com/rerc prior to the meeting.

ADDRESSES: The meeting will take place at the Hilton Franklin Cool Springs at 601 Corporate Centre Dr., Franklin, TN 37067. The meeting will also be available virtually to the public. Instructions to view the meeting will be posted at www.tva.com/rerc prior to the meeting. Persons who wish to speak virtually during the public listening session must pre-register by 4:00 p.m. CT Thursday, February 20, 2025, by emailing bhaliti@tva.gov. Persons wishing to speak in person are requested to register either at the door between 8:30 a.m. and 9:00 a.m. CT on Tuesday, February 25, 2025, or in advance by emailing bhaliti@tva.gov. Persons who are registered to provide comments will be called on during the public listening session to share their views for up to five minutes, depending on number of registrants. Anyone needing special accommodations should let the contact below know at least one week in advance.

FOR FURTHER INFORMATION CONTACT: Bekim Haliti, bhaliti@tva.gov or 931-349-1894.

SUPPLEMENTARY INFORMATION: The RERC was established to advise TVA on its energy resource activities and the priorities among competing objectives and values. Notice of this meeting is given under the Federal Advisory Committee Act (FACA), 5 U.S.C. 10.

The meeting agenda includes the following:

February 24

1. Welcome and Introductions

2. RERC and TVA Meeting Update

3. Integrated Resource Plan Updates

4. Advice Question Discussion

February 25

5. Public Listening Session

6. Integrated Resource Plan advice statement

Dated: February 5, 2025.
Melanie Farrell,
Vice President, Tennessee Valley Authority Board Services, Tennessee Valley Authority.

[FR Doc. 2025-02540 Filed 2-11-25; 8:45 am]

BILLING CODE 8120-08-P